DELAWARE RIVER BASIN COMMISSION

Notice of Commission Meeting and Public Hearing

Notice is hereby given that the Delaware River Basin Commission will hold an informal conference followed by a public hearing on Wednesday, September 12, 2012. The hearing will be part of the Commission's regularly scheduled business meeting. The conference session and business meeting both are open to the public and will be held at the Commission's office building located at 25 State Police Drive, West Trenton, New Jersey.

The morning conference session will begin at 11 a.m. and will include updates by DRBC staff on the Nutrient Strategy for the Delaware Estuary and Implementation of the Basin Plan.

Items for Public Hearing. The subjects of the public hearing to be held during the 1:30 p.m. business meeting on September 12, 2012 include draft dockets for which the names and brief descriptions will be posted on the Commission's Web site at www.drbc.net at least 10 days prior to the meeting date. Complete draft dockets will be posted on the Web site ten days prior to the meeting date. Additional public records relating to the dockets may be examined at the Commission's offices. Please contact William Muszynski at 609-883-9500, extension 221, with any docket-related questions.

Other Agenda Items. In addition to the public hearings on draft dockets, the agenda for the 1:30 p.m. business meeting includes the standard business meeting items: adoption of the Minutes of the Commission's July 11, 2012 business meeting, announcements of upcoming meetings and events, a report on hydrologic conditions, reports by the Executive Director and the Commission's General Counsel, and a public dialogue session.

Opportunities to Comment. Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224. Written comment on items scheduled for hearing may be submitted in advance of the meeting date to: Commission Secretary, P.O. Box 7360, 25 State Police Drive, West Trenton, NJ 08628; by fax to Commission Secretary, DRBC at 609-883-9522 or by email to paula.schmitt@drbc.state.nj.us. Written comment on dockets should also be furnished directly to the Project Review Section at the above address or fax number or by email to william.muszynski@drbc.state.nj.us.

Individuals in need of an accommodation as provided for in the Americans with Disabilities Act who wish to attend the informational meeting, conference session or hearings should contact the Commission Secretary directly at 609-883-9500 ext. 203 or through the Telecommunications Relay Services (TRS) at 711, to discuss how we can accommodate your needs.

Agenda Updates. Note that conference items are subject to change and items scheduled for hearing are occasionally postponed to allow more time for the Commission to consider them. Please check the Commission's Web site, www.drbc.net, closer to the meeting date for changes that may be made after the deadline for filing this notice.

Dated: August 21, 2012.
Robert Tudor,
Deputy Executive Director.

[FR Doc. 2012-20997 Filed 8-24-12; 8:45 am]

BILLING CODE 6360-01-P